DEPARTMENT OF ENERGY

[Docket No. RP02-482-001]

Kern River Gas Transmission Company; Notice of Compliance Filing

October 18, 2002.

Take notice that on October 15, 2002, Kern River Gas Transmission Company (Kern River) tendered for filing as part of its FERC Gas Tariff, Second Revised Volume No. 1, First Revised First Revised Sheet No. 154; First Revised First Revised Sheet No. 155; First Revised Sheet No. 155-A; Substitute Second Revised Sheet No. 177; Substitute Original Revised Sheet No. 181-B; First Revised First Revised Sheet No. 832 ; and First Revised First Revised Sheet No. 833, to be effective October 1, 2002.

Kern River states that the purpose of this filing is to submit revised tariff sheets to comply with the Commission's September 30, 2002 “Order on Compliance Filing” by incorporating NAESB Standard 5.3.2 in Kern River's tariff; (2) by revising Kern River's proposed title tracking service; and (3) by updating the version number on certain NAESB Standards incorporated by reference on Sheet No. 177.

Kern River states that it has served a copy of this filing upon each person designated on the official service list compiled by the Secretary in this proceeding.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27286 Filed 10-24-02; 8:45 am]

BILLING CODE 6717-01-P